DEPARTMENT OF COMMERCE

International Trade Administration

[A-570-038]

Certain Amorphous Silica Fabric From the People's Republic of China: Postponement of Preliminary Determination of the Less-Than-Fair-Value Investigation

AGENCY: Enforcement and Compliance, International Trade Administration, Department of Commerce.

DATES: Effective Date: June 20, 2016.

FOR FURTHER INFORMATION CONTACT: Scott Hoefke at (202) 482-4947 or Mike Heaney at (202) 482-4475, AD/CVD Operations, Enforcement and Compliance, International Trade Administration, Department of Commerce, 14th Street and Constitution Avenue NW., Washington, DC 20230.

SUPPLEMENTARY INFORMATION:

Background

On February 16, 2016, the Department of Commerce (the Department) initiated an antidumping duty investigation on certain amorphous silica fabric from the People's Republic of China.¹ The notice of initiation stated that the Department, in accordance with section 733(b)(1)(A) of the Tariff Act of 1930, as amended (the Act), and 19 CFR 351.205(b)(1), would issue its preliminary determination for this investigation, unless postponed, no later than 140 days after the date of the initiation. The deadline for the preliminary determination of this antidumping duty investigation is currently July 5, 2016.

¹ See Certain Amorphous Silica Fabric from the People's Republic of China: Initiation of Less-Than-Fair-Value Investigation, 81 FR 8913 (February 23, 2016).

Postponement of the Preliminary Determination

Section 733(c)(1)(A) of the Act permits the Department to postpone the time limit for the preliminary determination if it receives a timely request from the petitioner for postponement. The Department may postpone the preliminary determination under section 733(c)(1) of the Act until no later than 190 days after the date on which the Department initiates an investigation.

On June 1, 2016, Auburn Manufacturing, Inc. (the Petitioner) submitted a timely request pursuant to section 733(c)(1) of the Act and 19 CFR 351.205(e) for a 50-day postponement of the preliminary determination in this investigation.² The petitioner stated that a postponement is necessary for the Department to conduct a complete and thorough analysis. The petitioner further stated that a postponement is needed to allow time to address the various deficiencies in the questionnaire responses submitted in this case. The petitioner submitted its request more than 25 days before the scheduled date of the preliminary determination.³

² See Letter from Petitioner, “Certain Amorphous Silica Fabric from the People's Republic of China: Request for Extension of the Deadline for the Preliminary Determination,” dated June 1, 2016.

³ See 19 CFR 351.205(e).

For the reasons stated above, and because there are no compelling reasons to deny the petitioner's request, the Department is postponing the preliminary determination in this investigation in accordance with section 733(c)(1)(A) of the Act and 19 CFR 351.205(b)(2) by 50 days until August 24, 2016.

The deadline for the final determination will continue to be 75 days after the date of the preliminary determination, unless postponed at a later date.

This notice is issued and published pursuant to section 733(c)(1) of the Act and 19 CFR 351.205(f)(1).

Dated: June 13, 2016.
Paul Piquado,
Assistant Secretary for Enforcement and Compliance.

[FR Doc. 2016-14535 Filed 6-17-16; 8:45 am]

BILLING CODE 3510-DS-P